DEPARTMENT OF STATE

[Public Notice Number 3542]

Meetings; United States International Telecommunication Advisory Committee (ITAC)—Telecommunication Standardization Sector (ITAC-T) National Committee and U.S. Study Groups A, B, and D and International Telecommunication Advisory Committee (ITAC)—Telecommunication Development Sector (ITAC-D)

The Department of State announces meetings of the U.S. International Telecommunication Advisory Committee—Telecommunication Standardization (ITAC-T) National Committee, and U.S. Study Groups A, B, and D. The purpose of the Committees is to advise the Department on policy and technical issues with respect to the International Telecommunication Union and international telecommunication standardization and development. Except where noted, meetings will be held at the Department of State, 2201 “C” Street, NW, Washington, DC. The ITAC-T National Committee will meet on February 12, and February 27, 2001, from 9:30 to noon. The agenda will be preparations for the ITU-T Telecommunication Standardization Advisory Group (TSAG) meeting starting on March 19, 2001. The ITAC-T will also meet on April 11 for a review of TSAG, and on July 11, September 20, October 24, and November 7, 2001, to prepare for TSAG of November 26, 2001.

The ITAC-T U.S. Study Group A will meet from 9:30 to noon on April 10, May 22, August 15, and October 25 to prepare for ITU-T Study Group 2 and 3 meetings.

The ITAC-T U.S. Study Group B will meet from 9:00 to 4:30 on April 6 and 27, and on May 1 to prepare for meetings of Study Groups 11, 13, and the Special Study Group. It will meet June 14 to prepare for Study Group 4, and on September 25 to prepare for Study Group 15.

The ITAC-T Study Group D will meet by email to prepare for Study Group 9. People who are not presently on the SGD reflector and who desire to participate should provide their email address to <minardje@state.gov> by February 5; they will be added to the SGD reflector. Members must post their contributions to the reflector by February 6 indicating whether they are to be USA or company contributions. Comments must be posted by February 9, and final versions of the contributions, accommodating the comments, posted by drafters February 14. If the Department of State disapproves any contribution, notice will be given on the reflector by February 14.

Study Group D will meet physically on May 10 to prepare for Study Group 16, on August 14 to prepare for Study Group 7, and on November 15 to prepare for an additional Study Group 9 meeting. These meetings will be from 9:30 until 4:30.

The ITAC-D will meet on February 6 from 2 to 4 in Room 1205 to prepare for the Telecommunication Development Sector Advisory Group (TDAG) meeting of February 22-23, 2001.

Members of the general public may attend these meetings. Directions to meeting locations and actual room assignments may be determined by calling the Secretariat at 202 647-0965/2592. For meetings held at the Department of State: entrance to the building is controlled; people intending to attend any of the ITAC meetings should send a fax to (202) 647-7407 not later than 24 hours before the meeting for preclearance. This fax should display the name of the meeting (ITAC-T, U. S. Study Group) and date of meeting, your name, social security number, date of birth, and organizational affiliation. One of the following valid photo identifications will be required for admission: U.S. driver's license, passport, U.S. Government identification card. Enter the Department of State from the C Street Lobby; in view of escorting requirements, non-Government attendees should plan to arrive not less than 15 minutes before the meeting begins.

Attendees may join in the discussions, subject to the instructions of the Chair. Admission of members will be limited to seating available.

Dated: January 23, 2001.
Doreen McGirr,
Chairman, ITAC-D, U.S. Department of State.

[FR Doc. 01-2861 Filed 1-30-01; 3:39 pm]

BILLING CODE 4710-45-P